DEPARTMENT OF COMMERCE

National Oceanic and Atmospheric Administration

[RTID 0648-XE844]

Gulf Fishery Management Council; Public Meeting

AGENCY: National Marine Fisheries Service (NMFS), National Oceanic and Atmospheric Administration (NOAA), Commerce.

ACTION: Notice of a public meeting.

SUMMARY: The Gulf Fishery Management Council (Gulf Council) will hold a one-day in-person meeting of their Standing and Shrimp Scientific and Statistical Committees (SSCs).

DATES: The meeting will be held Thursday, May 8, 2025; 8:30 a.m.-5 p.m., EDT.

ADDRESSES: The meeting will take place at the Gulf Council office. Registration information will be available on the Council's website by visiting www.gulfcouncil.org and clicking on the “meeting tab”.

Council address: Gulf Council, 4107 W Spruce Street, Suite 200, Tampa, FL 33607; telephone: (813) 348-1630.

FOR FURTHER INFORMATION CONTACT: Mr. Ryan Rindone, Lead Fishery Biologist, Gulf Council; ryan.rindone@gulfcouncil.org, telephone: (813) 348-1630.

SUPPLEMENTARY INFORMATION:

Thursday, May 8, 2025; 8:30 a.m.-5 p.m., EDT

The meeting will begin with introductions and adoption of agenda, review and approval of minutes and summary from the February 2025 SSC Meeting, and scope of work.

The SSC will review revised overfishing limit and acceptable biological catch recommendations for SEDAR 88, including a presentation and SSC discussion. The SSC will then discuss Status Determination Criteria and Overfishing Limits (OFL) and Acceptable Biological Catch (ABC) Projections Settings for Gulf Stock Assessments, and SEDAR 68 Updated Projections for Scamp and Yellowmouth Grouper including presentations, background materials and SSC discussion.

Following lunch, the SSC will review the Center for Independent Experts (CIE) Independent Peer Review of the Shrimp Bycatch Estimation Methodology for Finfish Species, New Bycatch Estimates and Other Analyses for Smalltooth Sawfish and Giant Manta Ray, and Population Viability Analysis for Endangered and Threatened Resources that Interact with the Shrimp Fishery, including presentations and SSC discussions.

The SSC will review the SEDAR Process Update, SEDAR 100: Gulf Gray Triggerfish Participants for Review Phase, SSC SEDAR Workshops Updates for SEDAR 87 Gulf Penaeid Shrimp Assessment Process and SEDAR 98 Gulf Red Snapper Data Workshop, and Takeaways from Science Coordination Subcommittee, including presentations and SSC discussion.

Public comments will be heard at the end of the day, if any, followed by review of any Other Business items.

—Meeting Adjourns

The meeting will also be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take-action to address the emergency.

Special Accommodations

The meeting is physically accessible to people with disabilities. Requests for sign language interpretation or other auxiliary aid should be directed to Kathy Pereira, (813) 348-1630, at least 5 days prior to the meeting date.

(Authority: 16 U.S.C. 1801 et seq.)

Dated: April 14, 2025.
Rey Israel Marquez,
Acting Deputy Director, Office of Sustainable Fisheries, National Marine Fisheries Service.

[FR Doc. 2025-06630 Filed 4-17-25; 8:45 am]

BILLING CODE 3510-22-P